NATIONAL SCIENCE FOUNDATION

Special Emphasis Panel in Civil and Mechanical Systems; Notice of Meeting

In accordance with the Federal Advisory Committee Act (Pub. L. 92-463, as amended), the National Science Foundation announces the following meeting:

Name: Special Emphasis Panel in Civil and Mechanical Systems (1205).

Date and Time: 18 and 19, May, 2000, 8 a.m. to 5 p.m.

Place: NSF, 4201 Wilson Boulevard, Rooms 365 and 310, Arlington, Virginia 22230.

Type of Meeting: Closed.

Contact Person: Dr. Jorn Larsen-Basse, Program Director Surface Engineering and Material Design, Division of Civil and Mechanical Systems, Room 545, (703) 306-1361.

Purpose of Meeting: To provide advice and recommendations concerning proposals submitted to NSF for financial support.

Agenda: To review and evaluate nominations for the FY’00 Mechanics and Structures of Materials and Surface Engineering and Material Design Review Panel proposals as part of the selection process for awards.

Reason for Closing: The proposals being reviewed include information of a proprietary or confidential nature, including technical information; financial data, such as salaries and personal information concerning individuals associated with the proposals. These matters are exempt under 5 U.S.C. 552b(c)(4) and (6) of the Government in the Sunshine Act.

Dated: May 2, 2000.
Karen J. York,
Committee Management Officer.

[FR Doc. 00-11273 Filed 5-4-00; 8:45 am]

BILLING CODE 7555-01-M